DEPARTMENT OF ENERGY

Federal Energy Regulatory Commission

[Docket No. RM21-9-000]

Technical Conference on Financial Assurance Measures for Hydroelectric Projects; Supplemental Notice of Technical Conference

As announced in the Notice of Technical Conference issued in this proceeding on January 25, 2022, the Federal Energy Regulatory Commission (Commission) will convene a Commission staff-led technical conference to discuss how the Commission may require additional financial assurance mechanisms in the licenses and other authorizations it issues for hydroelectric projects, to ensure that licensees have the capability to carry out license requirements and, particularly, to maintain their projects in safe condition. The technical conference will be held on Tuesday, April 26, 2022, from approximately 11:30 to 4:15 p.m. Eastern time. The conference will be held virtually.

The agenda for this event is attached. The conference will be open for the public to attend virtually, and there is no fee for attendance. A second supplemental notice will be issued prior to the conference with the confirmed panelists. Information on this technical conference will also be posted on the Calendar of Events on the Commission's website, www.ferc.gov, prior to the event. Transcripts will be available for a fee from Ace Reporting, (202) 347-3700.

Individuals interested in participating as panelists should self-nominate by 5:00 p.m. Eastern time on Tuesday, March 1, 2022, via email at the following address: HydroFinancialAssurance@ferc.gov. The self-nominations should have “Panelist Self-Nomination” in the subject line and include the panelist's name, title, organization, mailing address, telephone number, email address, one paragraph biography, photograph, and panel selection.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact HydroFinancialAssurance@ferc.gov. For information related to logistics, please contact Sarah McKinley at sarah.mckinley@ferc.gov or (202) 502-8368.

Dated: February 15, 2022.
Kimberly D. Bose,
Secretary.

[FR Doc. 2022-03694 Filed 2-18-22; 8:45 am]

BILLING CODE 6717-01-P